DEPARTMENT OF TRANSPORTATION

Surface Transportation Board

[STB Finance Docket No. 35330]

Rusk County Rural Rail District—Acquisition Exemption—Union Pacific Railroad Company

Rusk County Rural Rail District (RCRRD), a noncarrier, has filed a verified notice of exemption under 49 CFR 1150.31 to acquire from Union Pacific Railroad Company (UP) a 15.69-mile line of railroad beginning at milepost 0.59 near Overton, TX, and ending at milepost 16.28 near Henderson, TX.¹

¹ UP has obtained Board authority to abandon this line of railroad in Union Pacific Railroad Company—Abandonment—in Rusk County, TX, STB Docket No. AB-33 (Sub-No. 275) (STB served Sept. 11, 2009), but has not consummated the abandonment. In lieu of abandonment, UP has agreed to sell the right-of-way, track, and track structures to RCRRD for continued rail service.

RCRRD anticipates that the transaction will be consummated on or after December 28, 2009.

RCRRD certifies that its projected annual revenues as a result of this transaction will not exceed $5 million and will not result in the creation of a Class II or Class I rail carrier.

This transaction is related to a concurrently filed verified notice of exemption in STB Finance Docket No. 35327, Blacklands Railroad, Inc.—Lease and Operation Exemption—Rusk County Rural Rail District. In that proceeding, Blacklands Railroad, Inc. (BLR) seeks to lease from RCRRD and operate the 15.69 miles of rail line that RCRRD seeks to acquire in this proceeding. According to RCRRD, on the date that RCRRD acquires the line, BLR will assume responsibility for operating the line pursuant to a lease agreement between RCRRD and BLR.

RCRRD states that it has reached an agreement with UP on the principal terms of the transaction but they have not yet finalized it. RCRRD anticipates finalizing the agreement before the effective date of the notice. RCRRD also states that the proposed acquisition of the line will not involve any provision or agreement between UP and RCRRD that would limit future interchange with a third-party connecting carrier, as the line only connects with UP at Overton, TX.

Pursuant to the Consolidated Appropriations Act, 2008, Public Law 110-161, § 193, 121 Stat. 1844 (2007), nothing in this decision authorizes the following activities at any solid waste rail transfer facility: collecting, storing, or transferring solid waste outside of its original shipping container; or separating or processing solid waste (including baling, crushing, compacting, and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Stay petitions must be filed no later than December 18, 2009 (at least 7 days before the exemption becomes effective).

An original and 10 copies of all pleadings, referring to STB Finance Docket No. 35330, must be filed with the Surface Transportation Board, 395 E Street, SW., Washington, DC 20423-0001. In addition, one copy of each pleading must be served on Robert A. Wimbish, Baker & Miller PLLC, 2401 Pennsylvania Ave., NW., Suite 300, Washington, DC 20037.

Board decisions and notices are available on our website at http://www.stb.dot.gov.

Decided: December 7, 2009.
By the Board, Rachel D. Campbell, Director, Office of Proceedings.
Kulunie L. Cannon,
Clearance Clerk.

[FR Doc. E9-29513 Filed 12-10-09; 8:45 am]

BILLING CODE 4915-01-P